Title 3—

The President

Proclamation 7525 of March 2, 2002

American Red Cross Month, 2002

By the President of the United States of America

A Proclamation

The American Red Cross is one of our Nation's oldest and most renowned charitable organizations. It provides help, hope, and healing when disasters or other crises strike countries, communities, or families around the world.

Founded in 1881 by Clara Barton, the American Red Cross was chartered by the Congress in 1905 to provide aid in times of need. Each year, the Red Cross responds to more than 67,000 disasters nationwide. These include natural disasters, thousands of home fires, and catastrophic emergencies—such as the brutal terrorist attacks of September 11, 2001. The Red Cross was among the first to respond to this unprecedented national crisis, providing direct assistance to more than 50,000 families, shelter for thousands of displaced persons, millions of meals for the hungry, and grief counseling for more than 200,000 individuals affected by the trauma. The Red Cross also provides assistance during international emergencies. Responding to my request, it helped create and now administers America's Fund for Afghan Children. American children were asked to donate one dollar to aid Afghani children, and this effort has already provided $2.4 million in medicine and other supplies to Afghanistan. Last year, the Red Cross rushed immediate medical aid and other needed items to countries devastated by natural disasters, and it helped millions of people around the world to battle malnutrition and life-threatening diseases and gain access to safe drinking water.

Other Red Cross services include recruiting millions of people annually to donate blood and thereby provide hospitals with half of the Nation's supply of blood and blood products. Red Cross personnel are now with our troops who are fighting terrorism in Afghanistan. They live alongside our soldiers in harsh conditions and work around the clock to fulfill an historic role. They help to keep service members and their families in touch with each other, and offer other small comforts to ease the strain of those who are serving the cause of freedom.

At home, the Red Cross' courses in lifesaving skills, first aid, CPR, and water safety, provide Americans with information they need to help maintain safe and healthy lives. Our communities also benefit from Red Cross programs that provide hot meals and transportation for the homebound, as well as housing and job training for the homeless.

Over one million Red Cross volunteers help make our country stronger and more compassionate by relieving suffering and saving lives every year. The USA Freedom Corps initiative will provide the Red Cross with even more volunteers to help further its important mission. As we celebrate American Red Cross Month, I call on all our citizens to recommit to serving others in need. Collective acts of kindness and compassion point the way to a brighter future for our Nation and the world.

NOW, THEREFORE, I, GEORGE W. BUSH, President of the United States of America and Honorary Chairman of the American Red Cross, by virtue of the authority vested in me by the Constitution and laws of the United States, do hereby proclaim March 2002 as American Red Cross Month. Especially during this extraordinary time for our country, I encourage all Americans to support this organization's noble humanitarian mission.

IN WITNESS WHEREOF, I have hereunto set my hand this second day of March, in the year of our Lord two thousand two, and of the Independence of the United States of America the two hundred and twenty-sixth.

B

[FR Doc. 02-5505

Filed 3-5-02; 8:45 am]

Billing code 3195-01-P